FEDERAL COMMUNICATIONS COMMISSION

Notice of Public Information Collection(s) Being Reviewed by the Federal Communications Commission, Comments Requested

August 4, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 10, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0684

Title: Amendment to the Commission's Rules Regarding a Plan for Sharing the Costs of Microwave Relocation.

Form No.: N/A.

Type of Review: Extension and revision of a currently approved collection.

Respondents: Business or other for-profit institutions (Personal Communications Services providers and Fixed Microwave Service providers), not-for-profit institutions (associations representing providers listed above); public safety agencies.

Number of Respondents: Existing collection approval—2,000 industry respondents submitting information to each other and to the clearinghouses, 1 industry respondent serving as the clearinghouse; Additional collection—20 (of the 2000) industry respondents hiring third-party appraisers; 1 industry respondent serving as another clearinghouse.

Estimated Time Per Response: Existing collection approval—.875 hours for the 2000 respondents, 40 hours for the clearinghouse; Additional collection—8 hours for the 20 third-party appraisers, 15,125 hours (annual) for a second clearinghouse, and 15,125 hours (annual) for the existing clearinghouse.

Frequency of Response: On occasion reporting requirement for the 2000 respondents and the 20 third-party appraisers; biannual reporting requirement and yearly operation and recordkeeping for the two clearinghouses.

Total Annual Burden: 32,200 hours (1790 existing collection approval, 30,410 additional collection).

Total Annual Cost: $862,000 ($180,000 existing collection approval, $682,000 additional collection).

Needs and Uses: The information collections in this proceeding are necessary to effectuate the relocation of fixed microwave incumbents from the 2 GHz band to clear spectrum for the development of PCS. In addition, the collections are necessary to effectuate the Commission's plan for PCS relocators and subsequent PCS licensees to share the costs of relocating existing 2 GHz microwave facilities, thus providing for a fair and efficient relocation process. The information is used by: 2000 respondents to negotiate relocation costs and submit relocation information to the clearinghouses; and two clearinghouses to determine the reimbursement obligations owed by later-entrant PCS entities. This information collection revises a collection approved by the Office of Management and Budget (OMB) on August 19, 1996, which revised the new collection that was approved by OMB on December 31, 1995. In particular, this information collection makes the following additions to the currently-approved collection: (1) reflects an additional burden of independent third party appraisal of the relocation costs for self-relocating incumbents; (2) reflects a new estimate of the burden on industry to set up and maintain the clearinghouses.

Federal Communications Commission.
Magalie Roman Salas,
Secretary.

[FR Doc. 00-20270 Filed 8-9-00; 8:45 am]

BILLING CODE 6712-01-P